DEPARTMENT OF DEFENSE

Department of the Army; Corps of Engineers

Chief of Engineers Environmental Advisory Board; Meeting

AGENCY: Department of the Army, U.S. Army Corps of Engineers, DoD.

ACTION: Notice of open meeting.

SUMMARY: In accordance with the Federal Advisory Committee Act of 1972 (5 U.S.C., Appendix, as amended), the Government in the Sunshine Act of 1976 (5 U.S.C. 552b, as amended), and 41 CFR 102-3, announcement is made of the forthcoming meeting.

Name of Committee: Chief of Engineers Environmental Advisory Board (EAB).

Date: September 11, 2013.

Time: 9:00 a.m. through 12:00 p.m.

Location: Room 3K10, Headquarters, U.S. Army Corps of Engineers, in the Government Accountability Office (GAO) Building, 441 G Street NW., Washington, DC 20548-0002, Phone: (202) 512-6000.

Purpose of the Meeting and Agenda: The Board will advise the Chief of Engineers on environmental policy, identification and resolution of environmental issues and missions, and addressing challenges, problems and opportunities in an environmentally sustainable manner. Discussions and presentations during this meeting will include flow management for sustainable river ecosystems; Corps' outreach opportunities in science, technology, engineering, and mathematics (STEM) education; and introduction of a multi-year work plan for the Board. The Board will also briefly discuss recent site visits and completed letter reports. Following Board discussions and presentations there will be a public comment period.

Public's Accessibility to the Meeting: This meeting will be open to the public. Anyone attending the meeting must enter and exit at the G Street visitors entrance of the GAO Building, present a valid form of government issued photo identification (e.g., drivers license, state-issued photo ID, or passport), and pass through the security screening station. All visitors must be escorted while in the building. The GAO Building is accessible to persons with disabilities. Attendees need to arrive in time to complete the security screening and arrive at the meeting room before 9:00 a.m. Seating will be limited and on a first-come basis.

The Committee's Designated Federal Officer (DFO) and Point of Contact: Mr. John C. Furry, Phone: (202) 761-5875, or email john.c.furry@usace.army.mil

SUPPLEMENTARY INFORMATION: The primary purpose of this meeting is for the Chief of Engineers to receive the views of his Environmental Advisory Board. However, any member of the public, including interested organizations, may submit written comments to the EAB concerning the Board's mission and functions, or in response to the stated agenda of the meeting. Written statements should be sent to the DFO at: Mr. John C. Furry (3I23), DFO Chief of Engineers Environmental Advisory Board, U.S. Army Corps of Engineers, 441 G Street NW., Washington, DC 20314-1000; or emailed to john.c.furry@usace.army.mil. Written and emailed statements must be received by the DFO no later than five working days prior to the meeting in order to allow time for Board consideration. By rule, no member of the public will be allowed to present questions from the floor or speak to any issue under consideration during the deliberative portion of the meeting. However, up to thirty minutes will be set aside in the agenda for public comment. Each statement will be limited to 3 minutes. Anyone who wishes to speak must register prior to the start of the meeting. Registration will be near the meeting room entrance from 8:30 until 8:55 a.m. The EAB operates under the provisions of the Federal Advisory Committee Act, as amended, so all submitted comments and public presentations will be treated as public documents and may be made available for public inspection, including, but not limited to, being posted on the Board's Web site.

Brenda S. Bowen,
Army Federal Register Liaison Officer.

[FR Doc. 2013-19814 Filed 8-15-13; 8:45 am]

BILLING CODE 3720-58-P